DEPARTMENT OF ENERGY

Federal Energy Regulatory Commission

[Docket No. ER04-14-004, et al.]

The Detroit Edison Company, et al.; Electric Rate and Corporate Filings

December 7, 2004.

The following filings have been made with the Commission. The filings are listed in ascending order within each docket classification.

1. The Detroit Edison Company

[Docket Nos. ER04-14-004 and EL04-29-004]

Take notice that on December 2, 2004, The Detroit Edison Company tendered for filing with the Commission a revised ancillary services tariff in accordance with the terms of an uncontested settlement agreement approved by the Commission's order issued November 23, 2004, in Docket Nos. ER04-14-000 and EL04-29-000.

Comment Date: 5 p.m. eastern time on December 23, 2004.

2. The Dayton Power and Light Company

[Docket No. ER04-1256-002]

Take notice that on December 1, 2004, The Dayton Power and Light Company (Dayton) submitted an amended filing of a local delivery service agreement between Dayton and Buckeye Power, Inc.

Dayton states that a copy of this agreement has been served on Buckeye and the Public Utilities Commission of Ohio.

Comment Date: 5 p.m. eastern time on December 22, 2004.

3. Midwest Independent Transmission System Operator, Inc., Midwest Independent Transmission System Operator, Inc., Midwest Independent Transmission System Operator, Inc., Ameren Services Co., et al.

[Docket Nos. ER05-6-005, EL04-135-007 EL02-111-024, EL03-212-021]

Take notice that on December 1, 2004, the Midwest Independent Transmission System Operator, Inc. (Midwest ISO) and Midwest ISO Transmission Owners (collectively Applicants) jointly submitted for filing revisions to proposed Schedules 21 and 22 of the Midwest ISO open access transmission tariff submitted on November 24, 2004, in compliance with the Commission's November 18, 2004, order in Docket Nos. ER05-6, EL04-135, EL02-111, and EL03-212, Midwest Indep. Transmission Sys. Operator, Inc., 109 FERC ¶ 61,168 (2004).

Applicants state that copies of the filing were served on parties on the official service list.

Comment Date: 5 p.m. eastern time on December 22, 2004.

4. JPMorgan Chase Bank, N.A.

[Docket No. ER05-283-000]

Take notice that on December 2, 2004, JPMorgan Chase Bank, N.A. (JPMCB) petitioned the Commission for acceptance of JPMCB Rate Schedule FERC No. 1; the granting of certain blanket approvals, including the authority to sell electricity at market-based rates; and the waiver of certain Commission regulations. JPMCB states that it intends to engage in wholesale electric energy and capacity transactions as a marketer and a broker. JPMCB also states that it is not in the business of generating or transmitting electric power. JPMCB further states that JPMorgan is a leading international banking and financial institution formed under the laws of the State of Delaware with its principal executive offices in New York, New York. JPMCB indicates that in transactions where JPMCB sells electric power, it proposes to make such sales on rates, terms and conditions to be mutually agreed to with the purchasing party.

Comment Date: 5 p.m. eastern time on December 23, 2004.

5. Midwest Independent Transmission System Operator, Inc.

[Docket No. ER05-285-000]

Take notice that on December 2, 2004, the Midwest Independent Transmission System Operator, Inc., (Midwest ISO) and FirstEnergy Service Company, on behalf of American Transmission Systems, Incorporated (ATSI) (collectively, Applicants), filed with the Commission proposed revisions to the Midwest ISO open access transmission tariff (OATT), which revisions are intended to provide for ATSI's transmission rates to be derived pursuant to the rate formulae in Attachment O to the Midwest ISO OATT. The Midwest ISO requests an effective date of February 1, 2005.

The Midwest ISO states that it has served a copy of this filing, including all attachments, electronically upon all Midwest ISO members, member representatives of transmission customers, and the Midwest ISO advisory committee participants, as well as all state commissions within the affected regions. In addition, the Midwest ISO states that this filing will be posted on the Midwest ISO's Web site at http://www.midwestiso.org under the heading “Filings to FERC.”

Comment Date: 5 p.m. eastern time on December 23, 2004.

6. American Electric Power Service Corporation

[Docket No. ER05-286-000]

Take notice that on December 2, 2004, American Electric Power Service Corporation (AEPSC), submitted for filing Notices of Cancellation for a Network Service Agreement and a Network Operating Agreement between Oklahoma Municipal Power Authority (OMPA) and Central and South West Services, Inc., designated agent for Central Power and Light Company, Public Service Company of Oklahoma, Southwestern Electric Power Company, and West Texas Utilities Company. AEPSC requests an effective date of January 1, 2005.

AEPSC states that it has served copies of the filing on OMPA and the Public Utility Commission of Texas, the Oklahoma Corporation Commission, the Louisiana Public Service Commission and the Arkansas Public Service Commission.

Comment Date: 5 p.m. eastern time on December 23, 2004.

7. Granite Ridge Energy, LLC

[Docket No. ER05-287-000]

Take notice that on December 2, 2004, Granite Ridge Energy, LLC (Granite Ridge Energy) filed (1) a Notice of Succession to notify the Commission that, as a result of a name change, Granite Ridge Energy has succeeded to the FERC rate schedule of AES Londonderry, L.L.C., and (2) amendments to the rate schedule to reflect the fact that Granite Ridge Energy is no longer affiliated with Indianapolis Power and Light Company, or any other electric utility with a franchised service territory. Granite Ridge Energy requests an effective date of November 2, 2004.

Comment Date: 5 p.m. eastern time on December 23, 2004.

8. PJM Interconnection, L.L.C.

[Docket No. ER05-290-000]

Take notice that on December 2, 2004, PJM Interconnection, L.L.C. (PJM), submitted for filing an executed interconnection service agreement (ISA) among PJM, PSEG Nuclear LLC, and Exelon Generation Company, LLC, and Public Service Electric and Gas Company, Atlantic City Electric Company, Delmarva Power & Light Company, and PECO Energy Company. PJM requests an effective date of November 2, 2004.

PJM states that copies of this filing were served upon the parties to the agreement and the state regulatory commissions within the PJM region.

Comment Date: 5 p.m. eastern time on December 23, 2004.

9. AVEC Holdings, LLC

[Docket No. ER05-291-000]

Take notice that on December 2, 2004, AVEC Holdings, LLC (AVEC) tendered for filing a Notice of Cancellation pursuant to 18 CFR 35.15 in order to reflect the cancellation of its market-based rate tariff, designated as FERC Electric Tariff, Original Volume No. 1, originally accepted for filing in Docket No. ER98-3565-000.

Comment Date: 5 p.m. eastern time on December 23, 2004.

10. California Independent System Operator Corporation

[Docket No. ER05-292-000]

Take notice that on December 2, 2004, the California Independent System Operator Corporation (ISO), tendered for filing an unexecuted meter service agreement for ISO metered entities (MSA), an unexecuted participating generator agreement (PGA), and an unexecuted Utility Distribution Company Operating Agreement (UDC Operating Agreement) between the ISO and the City of Corona, California (Corona) for acceptance by the Commission. The ISO requests privileged treatment, pursuant to 18 CFR 388.112, with regard to portions of the UDC Operating Agreement. The ISO states that the non-privileged elements of this filing have been served on Corona and the California Public Utilities Commission. The ISO is requesting waiver of the 60-day notice requirement to allow the MSA and PGA to be made effective on December 15, 2004, and the UDC Operating Agreement to be made effective on January 1, 2005.

Comment Date: 5 pm eastern time on December 23, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-3680 Filed 12-16-04; 8:45 am]

BILLING CODE 6717-01-P